DEPARTMENT OF HOMELAND SECURITY

Agency Information Collection Activities: Homeland Security Acquisition Regulation (HSAR) Regulation on Agency Protests

AGENCY: Office of the Chief Procurement Officer, Department of Homeland Security (DHS).

ACTION: 30-Day Notice and request for comments; Extension of a Currently Approved Collection, 1600-0004.

SUMMARY: The DHS Office of the Chief Procurement Officer will submit the following Information Collection Request (ICR) to the Office of Management and Budget (OMB) for review and clearance in accordance with the Paperwork Reduction Act of 1995. The information being collected will be obtained from contractors as part of their submissions whenever they file a bid protest with DHS. The information will be used by DHS officials in deciding how the protest should be resolved. Failure to collect this information would result in delayed resolution of protests. DHS previously published this ICR in the Federal Register on Wednesday, February 28, 2018 for a 60-day public comment period. Seven unrelated comments were received by DHS. The purpose of this notice is to allow an additional 30 days for public comments.

DATES: Comments are encouraged and will be accepted until July 9, 2018. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to dhsdeskofficer@omb.eop.gov.

SUPPLEMENTARY INFORMATION: The Federal Acquisition Regulation (FAR) and 48 CFR Chapter 1 provide general procedures on handling protests submitted by contractors to Federal agencies. FAR Part 33.103, Protests to the agency, prescribes policies and procedures for filing protests and for processing contract disputes and appeals. While the FAR prescribes the procedures to be followed for protests to the agency, it allows agencies to determine the method of receipt. DHS will utilize electronic mediums (email or facsimile) for collection of information and will not prescribe a format or require more information than what is already required in the FAR. If DHS determines there is a need to collect additional information outside of what is required in the FAR, DHS will submit a request to OMB for approval.

The information being collected will be obtained from contractors as part of their submissions whenever they file a bid protest with DHS. The information will be used by DHS officials in deciding how the protest should be resolved. Failure to collect this information would result in delayed resolution of protests.

Agency protest information is contained in each individual solicitation document, and provides the specified contracting officer's name, email, and mailing address that the contractors would use to submit its response. The FAR does not specify the format in which the contractor should submit protest information. However, most contractors use computers to prepare protest materials and submit time sensitive responses electronically (email or facsimile) to the specified Government point of contact. Since the responses must meet specific timeframes, a centralized mailbox or website would not be a practical method of submission. Submission of protest information through contracting officers' email or through facsimile are the best methods to use to document receipt of protest information, and are the methods most commonly used in the Government protest process.

DHS/ALL/PIA-006 General Contact Lists covers the basic contact information that must be collected for DHS to address these protests. The other information collected will typically pertain to the contract itself, and not individuals. However, all information for this information collection is submitted voluntarily. Technically, because this information is not retrieved by personal identifier, no SORN is required. However, DHS/ALL-021 DHS Contractors and Consultants provides coverage for the collection of records on DHS contractors and consultants, to include resume and qualifying employment information. There is no assurance of confidentiality provided to the respondents.

The burden estimates are based upon reports of protest activities submitted to the Government Accountability Office (GAO) or the Court of Federal Claims in Fiscal Year 2016. No program changes occurred, however, the burden was adjusted to reflect an agency adjustment increase of 4 respondents within DHS for Fiscal Year 2016, as well as an increase in the average hourly wage rate.

This is an Extension of a Currently Approved Collection, 1600-0004. DHS previously published this ICR in the Federal Register on Wednesday, February 28, 2018 at 83 FR 8687 for a 60-day public comment period, and is soliciting public comment for another 30 days. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Chief Procurement Officer, DHS.

Title: Agency Information Collection Activities: Homeland Security Acquisition Regulation (HSAR) Regulation on Agency Protests.

OMB Number: 1600-0004.

Frequency: On Occasion.

Affected Public: Individuals or Households.

Number of Respondents: 99.

Estimated Time per Respondent: 2 hours.

Total Burden Hours: 198.

Dated: May 31, 2018.
Melissa Bruce,
Executive Director, Enterprise Business Management Office.

[FR Doc. 2018-12286 Filed 6-6-18; 8:45 am]

BILLING CODE 9110-9B-P